DEPARTMENT OF JUSTICE

Office of Justice Programs

Agency Information Collection Activities: Proposed Collection; Comments Requested

ACTION: 60-day emergency notice of information collection under review: summit on implementing wireless communications assessment.

The Department of Justice, Office of Justice Programs, National Institute of Justice has submitted the following information collection request to the Office of Management and Budget (OMB) for review and clearance in accordance with emergency review procedures of the Paperwork Reduction Act of 1995. OMB approval has been requested by May 2, 2005. The proposed information collection is published to obtain comments from the public and affected agencies. If granted, the emergency approval is only valid for 180 days. Comments should be directed to OMB, Office of Information and Regulation Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to: Rhonda Jones, Program Executive, National Institute of Justice, by telephone, at: 202-616-3233.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: New collection.

(2) The title of the form/collection: Summit on Implementing Wireless Communications Assessment.

(3) The agency form number, if any, and the applicable component of the Department sponsoring the collection: No agency form number; applicable component is the National Institute of Justice.

(4) Affected public who will be asked or required to respond, as well as a brief abstract: Primary: State, local, or tribal government. Other: Federal Government, Not-for-profit Institutions. The information collected in this assessment will be used to help plan future Department of Justice Summits. Attendees of the summit are asked to assess the panel topics, offered sessions, and overall benefits of the summit. Additionally, the attendees are asked to provide any comments they may have had on the summit in general.

(5) An estimate of the total number of respondents and the amount of time estimated for an average respondent to respond/reply: It is estimated that 130 respondents will complete the application in 3 minutes.

(6) An estimate of the total public burden (in hours) associated with the collection: The estimated total public burden associated with this application is 6.5 hours.

If additional information is required contact: Brenda E. Dyer, Department Clearance Officer, Information Management and Security Staff, Justice Management Division, United States Department of Justice, 601 D Street, NW., Patrick Henry Building, Suite 1600, Washington, DC 20530.

Dated: April 28, 2005.
Brenda E. Dyer,
Department Clearance Officer, United States Department of Justice.

[FR Doc. 05-8825 Filed 5-3-05; 8:45 am]

BILLING CODE 4410-18-P